FEDERAL RESERVE SYSTEM

Change in Bank Control Notices; Formations of, Acquisitions by, and Mergers of Bank Holding Companies; Correction

This notice corrects a notice (FR Doc. 2014-11653) published on page 29190 of the issue for Wednesday, May 21, 2014.

Under the Federal Reserve Bank of St. Louis heading, the entry for Riney Family Control Group, is revised to read as follows:

A. Federal Reserve Bank of St. Louis (Yvonne Sparks, Community Development Officer) P.O. Box 442, St. Louis, Missouri 63166-2034:

1. Riney Family Control Group, which consists of Teresa White Riney; Teresa White Riney, IRA; William Anthony Riney, Jr.; William Anthony Riney, Jr. IRA; William Anthony Riney, Jr., Custodian for Thomas William Riney; William Anthony Riney, Jr., Custodian for John William Riney; Betty Doris White; William Anthony Riney, Sr.; Nancy White Hale, IRA; Rachel White Fenwick; Joseph Stephen Fenwick; David Wayne Riney, IRA; David Wayne Riney; Rhonda Thompson Riney; James Kevin Riney; and Lori Russell Riney, all of Springfield, Kentucky; Charles David White and Janice Carol White, both of Bardstown, Kentucky; Theresa Riney Noel and Bradley Dee Noel, both of Harrodsburg, Kentucky; and Deborah Jean Goist, Portage, Michigan, all acting in concert; to retain voting shares of Kentucky Home Bancshares, Inc., and thereby indirectly retain voting shares of Kentucky Home Bank, Inc., both in Bardstown, Kentucky.

Comments on this application must be received by June 4, 2014.

Board of Governors of the Federal Reserve System, May 21, 2014.
Michael J. Lewandowski,
Associate Secretary of the Board.

[FR Doc. 2014-12107 Filed 5-23-14; 8:45 am]

BILLING CODE 6210-01-P